DEPARTMENT OF ENERGY

Federal Energy Regulatory Commission

Combined Notice of Filings #1

Take notice that the Commission received the following exempt wholesale generator filings:

Docket Numbers: EG22-200-000.

Applicants: Orsted Onshore North America, LLC.

Description: Sunflower Energy Center, LLC submits Notice of Self-Certification of Exempt Wholesale Generator Status.

Filed Date: 8/3/22.

Accession Number: 20220803-5125.

Comment Date: 5 p.m. ET 8/24/22.

Take notice that the Commission received the following electric rate filings:

Docket Numbers: ER10-1427-002; ER10-2460-021; ER10-2461-022; ER10-2463-020; ER10-2466-021; ER10-2895-023; ER10-2917-023; ER10-2918-024; ER10-2920-024; ER10-2921-023; ER10-2922-023; ER10-2966-023; ER10-3167-016; ER11-2201-026; ER11-2383-019; ER11-3376-007; ER11-3377-007; ER11-3378-007; ER11-4029-020; ER12-161-025; ER12-645-026; ER12-682-022; ER12-1311-020; ER12-2068-020; ER13-17-020; ER13-203-015; ER13-1139-023; ER22-398-001; ER13-1613-016; ER13-2143-016; ER14-25-020; ER14-1964-014; ER14-2630-016; ER16-287-009; ER17-482-008; ER19-529-008; ER19-1074-008; ER19-1075-008; ER19-2429-006; ER20-1447-004; ER20-1806-004; ER22-192-002; ER22-1010-001; ER22-1019-001; ER22-1627-001.

Applicants: AM Wind Repower LLC, Powell River Energy Inc., TerraForm IWG Acquisition Holdings II, LLC, Evolugen Trading and Marketing LP, Catalyst Old River Hydroelectric Limited Partnership, Brookfield Energy Marketing US LLC, Brookfield Smoky Mountain Hydropower LP, Brookfield Renewable Energy Marketing US LLC, Brookfield Energy Marketing Inc., Brookfield Renewable Trading and Marketing LP, BREG Aggregator LLC, BIF III Holtwood LLC, Regulus Solar, LLC, BIF II Safe Harbor Holdings, LLC, Prairie Breeze Wind Energy LLC, Black Bear Development Holdings, LLC, Brookfield White Pine Hydro LLC, Mesa Wind Power LLC, Imperial Valley Solar 1, LLC, Black Bear SO, LLC, Niagara Wind Power, LLC, Blue Sky East, LLC, Stetson Holdings, LLC, Erie Wind, LLC, California Ridge Wind Energy LLC, Bishop Hill Energy LLC, Vermont Wind, LLC, South Hurlburt Wind, LLC, Horseshoe Bend Wind, LLC, North Hurlburt Wind, LLC, Safe Harbor Water Power Corporation, Evergreen Wind Power III, LLC, Black Bear Hydro Partners, LLC, Rumford Falls Hydro LLC, Hawks Nest Hydro LLC, Great Lakes Hydro America, LLC, Erie Boulevard Hydropower, L.P., Carr Street Generating Station, L.P., Brookfield Power Piney & Deep Creek LLC, Bear Swamp Power Company LLC, Stetson Wind II, LLC, Evergreen Wind Power, LLC, Canandaigua Power Partners II, LLC, Canandaigua Power Partners, LLC, Brookfield Energy Marketing LP.

Description: Notice of Change in Status of Brookfield Energy Marketing LP, et al.

Filed Date: 7/29/22.

Accession Number: 20220729-5401.

Comment Date: 5 p.m. ET 8/19/22.

Docket Numbers: ER10-1520-009; ER10-1521-009; ER10-1522-007; ER10-2984-060; ER11-2044-039; ER12-162-033; ER13-1266-042; ER15-2211-040; ER20-2493-004; ER21-2280-003; ER22-1385-003.

Applicants: BHER Market Operations, LLC., Independence Wind Energy LLC, OTCF, LLC, MidAmerican Energy Services, LLC, CalEnergy, LLC, Bishop Hill Energy II LLC, MidAmerican Energy Company, Merrill Lynch Commodities, Inc., Occidental Chemical Corporation, Occidental Power Marketing, L.P., Occidental Power Services, Inc.

Description: Notice of Non-Material Change in Status of Occidental Power Services, Inc., et al.

Filed Date: 7/29/22.

Accession Number: 20220729-5397.

Comment Date: 5 p.m. ET 8/19/22.

Docket Numbers: ER10-1858-010; ER10-1862-035; ER10-1863-011; ER10-1865-016; ER10-1870-010; ER10-1871-011; ER10-1873-016; ER10-1875-016; ER10-1876-017; ER10-1877-009; ER10-1878-016; ER10-1883-016; ER10-1884-016; ER10-1885-016; ER10-1888-016; ER10-1889-010; ER10-1893-035; ER10-1895-010; ER10-1934-035; ER10-1938-036; ER10-1941-016; ER10-1942-033; ER10-1944-010; ER10-1947-017; ER10-2029-014; ER10-2036-013; ER10-2040-012; ER10-2041-012; ER10-2042-041; ER10-2043-012; ER10-2044-012; ER10-2051-012; ER10-2985-039; ER10-3049-040; ER10-3051-040; ER10-3260-012; ER11-4369-020; ER12-1987-014; ER12-2261-015; ER12-2645-009; ER13-1401-010; ER13-1407-012; ER14-2931-010; ER16-2218-021; ER17-696-021; ER18-1321-005; ER19-1127-006; ER20-1699-004; ER20-1939-003.

Applicants: Calpine Northeast Development, LLC, Johanna Energy Center, LLC, Calpine King City Cogen, LLC, Calpine Mid-Merit II, LLC, Calpine Energy Solutions, LLC, North American Power Business, LLC, Calpine Fore River Energy Center, LLC,CCFC Sutter Energy, LLC, Westbrook Energy Center, LLC, Pastoria Energy Facility L.L.C., Russell City Energy Company, LLC, O.L.S. Energy-Agnews, Inc., North American Power and Gas, LLC, Granite Ridge Energy, LLC, Champion Energy, LLC, Champion Energy Services, LLC, Champion Energy Marketing LLC, Calpine Bethlehem, LLC, Zion Energy LLC, Calpine Mid-Atlantic Generation, LLC, Calpine Energy Services, L.P., Calpine Mid Merit, LLC, Calpine New Jersey Generation, LLC, Calpine Vineland Solar, LLC, Calpine Mid-Atlantic Marketing, LLC, Otay Mesa Energy Center, LLC, Bethpage Energy Center 3, LLC, Calpine Construction Finance Company, L.P., Calpine Gilroy Cogen, L.P., Calpine Power America—CA, LLC,CES Marketing IX, LLC,KIAC Partners, CES Marketing X, LLC,CPN Bethpage 3rd Turbine, Inc., Creed Energy Center, LLC, Delta Energy Center, LLC, Geysers Power Company, LLC, Gilroy Energy Center, LLC, Goose Haven Energy Center, LLC, Hermiston Power, LLC, Los Esteros Critical Energy Facility, LLC, Los Medanos Energy Center LLC, Metcalf Energy Center, LLC, Morgan Energy Center, LLC, Nissequogue Cogen Partners, South Point Energy Center, LLC, Pine Bluff Energy, LLC, Power Contract Financing, L.L.C., TBG Cogen Partners.

Description: Notice of Change in Status of TBG Cogen Partners, et al.

Filed Date: 7/29/22.

Accession Number: 20220729-5400.

Comment Date: 5 p.m. ET 8/19/22.

Docket Numbers: ER10-1874-014; ER10-2721-012; ER10-2861-010; ER12-1308-013; ER13-1504-011; ER14-2140-013; ER14-2141-013; ER14-2465-015; ER14-2466-015; ER14-2939-012; ER15-632-014; ER15-634-014; ER15-1471-012; ER15-1672-011; ER15-1952-011; ER15-2728-014; ER16-711-010; ER16-915-005; ER16-2010-006; ER16-2561-006; ER19-9-008; ER19-2287-004; ER19-2294-004; ER19-2305-004.

Applicants: Valencia Power, LLC, Mesquite Power, LLC, Goal Line L.P., Mankato Energy Center II, LLC, Sunflower Wind Project, LLC, Hancock Wind, LLC, Comanche Solar PV, LLC, Pio Pico Energy Center, LLC, Maricopa West Solar PV, LLC, Pavant Solar LLC, Evergreen Wind Power II, LLC, Blue Sky West, LLC, Cottonwood Solar, LLC, CID Solar, LLC, Imperial Valley Solar Company (IVSC) 2, LLC, RE Camelot LLC, RE Columbia Two LLC, Selmer Farm, LLC, Mulberry Farm, LLC, SWG Arapahoe, LLC, Palouse Wind, LLC, Fountain Valley Power, L.L.C., El Paso Electric Company, Mankato Energy Center, LLC.

Description: Notice of Change in Status of Blue Sky West, LLC, et al.

Filed Date: 8/1/22.

Accession Number: 20220801-5298.

Comment Date: 5 p.m. ET 8/22/22.

Docket Numbers: ER15-1015-003.

Applicants: AltaGas Brush Energy Inc.

Description: Notice of Change in Status of AltaGas Brush Energy, Inc.

Filed Date: 7/29/22.

Accession Number: 20220729-5402.

Comment Date: 5 p.m. ET 8/19/22.

Docket Numbers: ER18-315-001; ER18-2178-001; ER20-1657-002; ER20-2845-003; ER20-2846-003; ER20-2847-003.

Applicants: AB Lessee, LLC, Mechanicsville Lessee, LLC, Albemarle Beach Solar, LLC, Mechanicsville Solar, LLC, Holloman Lessee, LLC, Wildwood Lessee, LLC.

Description: Notice of Change in Status of Wildwood Lessee, LLC, et al.

Filed Date: 8/1/22.

Accession Number: 20220801-5296.

Comment Date: 5 p.m. ET 8/22/22.

Docket Numbers: ER20-1927-001.

Applicants: Midcontinent Independent System Operator, Inc., Consumers Energy Company.

Description: Compliance filing: Midcontinent Independent System Operator, Inc. submits tariff filing per 35: 2022-08-04_Amendment of Consumers' Compliance on Order 864 for ADIT to be effective 1/27/2020.

Filed Date: 8/4/22.

Accession Number: 20220804-5050.

Comment Date: 5 p.m. ET 8/25/22.

Docket Numbers: ER21-281-002.

Applicants: MidAmerican Energy Company.

Description: Tariff Amendment: Amendment to Services Tariff (Docket No. ER21-281) to be effective 1/1/2021.

Filed Date: 8/3/22.

Accession Number: 20220803-5027.

Comment Date: 5 p.m. ET 8/24/22.

Docket Numbers: ER21-1349-000.

Applicants: Cleco Power LLC.

Description: Formal Challenge of the City of Alexandria, Louisiana to March 12, 2021 Annual Informational Filing by Cleco Power LLC.

Filed Date: 4/15/21.

Accession Number: 20210415-5371.

Comment Date: 5 p.m. ET 8/25/22.

Docket Numbers: ER21-2050-001.

Applicants: Midcontinent Independent System Operator, Inc., Consumers Energy Company.

Description: Tariff Amendment: Midcontinent Independent System Operator, Inc. submits tariff filing per 35.17(b): 2022-08-04_Amended Consumers Energy Exit Filing to be effective 12/31/9998.

Filed Date: 8/4/22.

Accession Number: 20220804-5057.

Comment Date: 5 p.m. ET 8/25/22.

Docket Numbers: ER22-1303-000.

Applicants: Cleco Power LLC.

Description: Formal Challenge of City of Alexandria, Louisiana to March 14, 2022 Annual Informational Filing by Cleco Power LLC and Request for Relief from Cleco's Annual Update Calculation.

Filed Date: 4/29/22.

Accession Number: 20220429-5480.

Comment Date: 5 p.m. ET 8/25/22.

Docket Numbers: ER22-1698-003.

Applicants: EDF Spring Field WPC, LLC.

Description: Tariff Amendment: Amendment to 3 to be effective 6/28/2022.

Filed Date: 8/3/22.

Accession Number: 20220803-5114.

Comment Date: 5 p.m. ET 8/24/22.

Docket Numbers: ER22-188-001; ER22-353-001; ER22-416-001; ER22-423-001; ER22-433-001; ER22-456-001; ER22-464-001; ER22-472-001; ER22-508-001; ER22-519-001; ER22-521-001; ER22-523-001.

Applicants: Indra Power Business TX LLC, Indra Power Business VA LLC, Indra Power Business DC LLC, Indra Power Business IL LLC, Indra Power Business DE LLC, Indra Power Business MD LLC, Indra Power Business MA LLC, Indra Power Business PA, LLC, Columbia Utilities Power Business LLC, Indra Power Business NJ, LLC, Indra Power Business MI, LLC, Indra Power Business CT, LLC.

Description: Notice of Change in Status of Indra Power Business CT, LLC, et al.

Filed Date: 8/2/22.

Accession Number: 20220802-5176.

Comment Date: 5 p.m. ET 8/23/22.

Docket Numbers: ER22-2055-001.

Applicants: Black Hills Colorado Electric, LLC.

Description: Tariff Amendment: BHCOE Reponse to Deficency Letter to be effective 8/8/2022.

Filed Date: 8/4/22.

Accession Number: 20220804-5065.

Comment Date: 5 p.m. ET 8/25/22.

Docket Numbers: ER22-2089-001.

Applicants: Alabama Power Company, Georgia Power Company, Mississippi Power Company.

Description: Tariff Amendment: Alabama Power Company submits tariff filing per 35.17(b): Supplement to Origis Development (Thalmann 1 Solar & Battery) LGIA Filing to be effective 6/1/2022.

Filed Date: 8/3/22.

Accession Number: 20220803-5101.

Comment Date: 5 p.m. ET 8/24/22.

Docket Numbers: ER22-2090-001.

Applicants: Alabama Power Company, Georgia Power Company, Mississippi Power Company.

Description: Tariff Amendment: Alabama Power Company submits tariff filing per 35.17(b): Supplement to Origis Development (Thalmann 2 Solar & Battery) LGIA Filing to be effective 6/1/2022.

Filed Date: 8/3/22.

Accession Number: 20220803-5102.

Comment Date: 5 p.m. ET 8/24/22.

Docket Numbers: ER22-2596-000.

Applicants: Southwest Power Pool, Inc.

Description: § 205(d) Rate Filing: 3749R1 WAPA and NPPD Interconnection Agreement to be effective 8/3/2022.

Filed Date: 8/4/22.

Accession Number: 20220804-5006.

Comment Date: 5 p.m. ET 8/25/22.

Docket Numbers: ER22-2597-000.

Applicants: Consumers Energy Company.

Description: Initial rate filing: Proposed Refund of ADIT per Order No. 864 to be effective 12/31/9998.

Filed Date: 8/4/22.

Accession Number: 20220804-5011.

Comment Date: 5 p.m. ET 8/25/22.

Docket Numbers: ER22-2598-000.

Applicants: PJM Interconnection, L.L.C.

Description: § 205(d) Rate Filing: Original NSA, Service Agreement No. 6574; Queue No. AE1-101 to be effective 7/12/2022.

Filed Date: 8/4/22.

Accession Number: 20220804-5012.

Comment Date: 5 p.m. ET 8/25/22.

Docket Numbers: ER22-2599-000.

Applicants: Atlantic Power and Gas LLC.

Description: Notice of Cancellation of Market Based Rate Tariff of Atlantic Power and Gas LLC.

Filed Date: 8/1/22.

Accession Number: 20220801-5299.

Comment Date: 5 p.m. ET 8/22/22.

Docket Numbers: ER22-2600-000.

Applicants: Arizona Public Service Company.

Description: § 205(d) Rate Filing: Service Agreement No. 360, Navopache NITS Amendment No. 1 to be effective 10/5/2022.

Filed Date: 8/4/22.

Accession Number: 20220804-5058.

Comment Date: 5 p.m. ET 8/25/22.

Docket Numbers: ER22-2601-000.

Applicants: Walleye Wind, LLC.

Description: Baseline eTariff Filing: Walleye Wind, LLC Application for Market-Based Rate Authority to be effective 10/4/2022.

Filed Date: 8/4/22.

Accession Number: 20220804-5071.

Comment Date: 5 p.m. ET 8/25/22.

Docket Numbers: ER22-2602-000.

Applicants: PJM Interconnection, L.L.C.

Description: § 205(d) Rate Filing: Cost Responsibility Agreement, SA No. 6548; Non-Queue No. NQ-171 to be effective 7/8/2022.

Filed Date: 8/4/22.

Accession Number: 20220804-5078.

Comment Date: 5 p.m. ET 8/25/22.

Docket Numbers: ER22-2603-000.

Applicants: NorthWestern Corporation.

Description: § 205(d) Rate Filing: Revisions to Reserve Energy Service Tariff to be effective 10/1/2022.

Filed Date: 8/4/22.

Accession Number: 20220804-5086.

Comment Date: 5 p.m. ET 8/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2022.
Kimberly D. Bose,
Secretary.

[FR Doc. 2022-17153 Filed 8-9-22; 8:45 am]

BILLING CODE 6717-01-P